DEPARTMENT OF COMMERCE

National Oceanic and Atmospheric Administration

RIN 0648-XF498

Endangered and Threatened Species; Take of Anadromous Fish

AGENCY: National Marine Fisheries Service (NMFS), National Oceanic and Atmospheric Administration (NOAA), Commerce.

ACTION: Notice.

SUMMARY: We, NMFS, announce receipt of a permit application (20571) to enhance the propagation and survival of species listed under the Endangered Species Act (ESA) of 1973, as amended, from the United States Fish and Wildlife Service (Service). Under permit application 20571, the Service is requesting to continue, for the next five years, hatchery and monitoring activities associated with the San Joaquin River Restoration Program (SJRRP) and the SJRRP's Salmon Conservation and Research Program. These activities of the SJRRP were previously permitted under permits 14868 and 17781. Under permit application 20571 the Service proposes to collect Central Valley spring-run Chinook salmon from Butte Creek to use as broodstock, which was not authorized by the previous permits. As part of this permit application, the Service has submitted an HGMP as an attachment to the application. This notice advises the public that the permit application and associated HGMP are available for review and comment, prior to a determination by NOAA's National Marine Fisheries Service (NMFS) on the issuance of the permit. The permit application, and attached HGMP, may be viewed online at: https://apps.nmfs.noaa.gov/preview/preview_open_for_comment.cfm.

DATES: Comments or requests for a public hearing on the application must be received at the appropriate address or fax number (see ADDRESSES) no later than 5 p.m. Pacific standard time on August 28, 2017.

ADDRESSES: Written comments on the application should be submitted to the California Central Valley Office, NMFS, 650 Capitol Mall, Suite 5-100, Sacramento, CA 95814. Comments may also be submitted via fax to 916-930-3629, or by email to Jeff.Abrams@noaa.gov (include the permit number in the subject line of the fax or email).

FOR FURTHER INFORMATION CONTACT: Jeff Abrams, Sacramento, CA (ph.: 916-930-3614; Fax: 916-930-3629; email: Jeff.Abrams@noaa.gov). Permit application instructions are available from the address above, or online at https://apps.nmfs.noaa.gov.

SUPPLEMENTARY INFORMATION:

Species Covered in This Notice

The following listed species are covered in this notice:

Chinook salmon (Oncorhynchus tshawytscha): Threatened Central Valley (CV) spring-run.

Steelhead (O. mykiss): Threatened California Central Valley (CCV).

Authority

Enhancement permits are issued in accordance with section 10(a)(1)(A) of the ESA (16 U.S.C. 1531 et seq.) and regulations governing listed fish and wildlife permits (50 CFR part 222). NMFS issues permits based on findings that such permits: (1) Are applied for in good faith; (2) if granted and exercised, would not operate to the disadvantage of the listed species that are the subject of the permit; (3) are consistent with the purposes and policies of section 2 of the ESA; (4) whether the permit would further a bona fide and necessary or desirable scientific purpose or enhance the propagation or survival of the endangered species, taking into account the benefits anticipated to be derived on behalf of the endangered species; and additional issuance criteria [as listed at 50 CFR 222.308(c)(5)-(12)]. The authority to take listed species is subject to conditions set forth in the permit.

Anyone requesting a hearing on an application listed in this notice should set out the specific reasons why a hearing on that application would be appropriate (see ADDRESSES). Such hearings are held at the discretion of the Assistant Administrator for Fisheries, NMFS.

Permit Application Received

Permit 20571

The Service has applied for an enhancement permit under section 10(a)(1)(A) of the ESA for a period of five years that would allow take of multiple life stages of CV spring-run Chinook salmon and CCV steelhead. Hatchery activities included in the permit application would result in take of CV spring-run Chinook salmon only. Hatchery activities would be permitted pursuant to the draft final HGMP, which is attached to the permit application. Monitoring and in-river research activities, also included in the application, could result in take of both CV spring-run Chinook salmon and CCV steelhead.

The activities would occur under the auspices of the SJRRP and are related to the reintroduction of salmonids to the San Joaquin River (SJR). This Service has previously conducted reintroduction activities under 10(a)(1)(A) permits 14868 and 17781. Permit 14868, issued October 11, 2012, authorized collection of broodstock from Feather River Hatchery (FRFH) for the Interim Salmon Conservation and Research Facility (Interim Facility) and Salmon Conservation and Research Facility (SCARF), which is currently under construction. Permit 17781, issued March 21, 2014, authorized collections from FRFH for direct translocation to the SJR, the release of broodstock offspring and ancillary broodstock to the SJR, trap and haul of returning adults, and population monitoring activities. The Service is proposing to continue with previously authorized work in addition to some new activities to further reintroduction efforts.

Under the application for Permit 20571, proposed take activities for CV spring-Run Chinook salmon include: (1) Broodstock collection, (2) broodstock rearing and spawning, (3) broodstock offspring (hatchery origin) and ancillary broodstock releases, (4) release of translocated hatchery origin juveniles, and (5) trap and haul of juveniles and returning adults. Activities also include restoration area monitoring and in-river research, which could involve take of both CV spring-run Chinook salmon and CCV steelhead.

Broodstock collections, as with all hatchery activities, would occur pursuant to the attached HGMP, and include potential collections from Butte Creek (juvenile life stage), FRFH (juvenile and/or egg life stage), or/and the SJR (adult, juvenile, and/or egg life stage). The purpose of collecting individuals from Butte Creek is to help to create an SJRRP broodstock, and self-sustaining population, that is a robust representation of the genetic and phenotypic diversity of the species. As described in the HGMP, collection would be in accordance with the SJRRP genetic management goal to promote and protect genetic diversity within the reestablishing population while safeguarding against negative genetic effects to out-of-basin source and non-target populations. Details for collection by source and life stage, including quarantine and pathology testing protocols, are included in the permit application. Hatchery-produced fish and ancillary broodstock may be released at various life stages based on production targets, hatchery capacity, river conditions, and program needs. Population monitoring and evaluation may include adult monitoring by video, acoustic tracking, visual surveys, and redd and spawning surveys; juvenile monitoring may consist of various outmigrant traps, and fry emergence monitoring. For a more detailed discussion of the monitoring activities, please see the permit application package.

Public Comments Solicited

NMFS invites the public to comment on the permit application and associated HGMP during a 30 day public comment period beginning on the date of this notice. This notice is provided pursuant to section 10(c) of the ESA (16 U.S.C. 1529(c)). All comments and materials received, including names and addresses, will become part of the administrative record and may be released to the public. We provide this notice in order to allow the public, agencies, or other organizations to review and comment on these documents.

Next Steps

NMFS will evaluate the applications, associated documents, and comments submitted to determine whether the applications meet the requirements of section 10(a)(1)(A) of the ESA and Federal regulations. The final permit decisions will not be made until after the end of the 30-day public comment period and after NMFS has fully considered all relevant comments received. NMFS will publish notice of its final action in the Federal Register.

Dated: July 24, 2017.
Angela Somma,
Chief, Endangered Species Division, Office of Protected Resources, National Marine Fisheries Service.

[FR Doc. 2017-15803 Filed 7-26-17; 8:45 am]

BILLING CODE 3510-22-P